POSTAL REGULATORY COMMISSION

[Docket No. N2022-1; Order No. 6115]

Service Standard Changes

AGENCY: Postal Regulatory Commission.

ACTION: Notice.

SUMMARY: The Commission is acknowledging a filing by the Postal Service of its intent to conduct a pre-filing conference regarding its proposed changes to the service standards for Retail Ground and Parcel Select Ground. This document informs the public of this proceeding and the pre-filing conference, and takes other administrative steps.

DATES: Pre-filing conference: March 15, 2022, 1:00 p.m. to 3:00 p.m., Eastern Daylight Time—Virtual Online.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: Pursuant to 39 CFR 3020.111(d), on March 4, 2022, the Postal Service filed a notice of its intent to conduct a pre-filing conference regarding its proposed changes to the service standards for Retail Ground and Parcel Select Ground.¹ Due to the COVID-19 pandemic, the conference will be held virtually on March 15, 2022, from 1:00 p.m. to 3:00 p.m. Eastern Daylight Time (EDT). See Notice at 1, 3. At this conference, Postal Service representatives capable of discussing the Postal Service's proposal will be available to educate the public and to allow interested persons to provide feedback to the Postal Service. See id. The registration instructions, which are available at https://about.usps.com/what/strategic-plans/delivering-for-america/#conference, direct interested persons to a website to register to participate using Zoom, and participants have until March 10, 2022, at 3:00 p.m. Eastern Standard Time to register.

¹ Notice of Pre-Filing Conference, March 4, 2022 (Notice). Retail Ground is an “economical ground shipping solution” for retail customers comprised of “packages, thick envelopes, and tubes weighing less than 70 pounds and smaller than 130 inches combined length and width,” and that are not otherwise required to be sent as First-Class Mail. Notice at 1 n.1. Parcel Select Ground differs in that it is targeted at large- and medium-sized commercial shippers. Id. at 1 n.2.

The Commission establishes Docket No. N2022-1 to consider the Postal Service's proposed changes to the service standards for Retail Ground and Parcel Select Ground.

The Postal Service ties its proposed changes to its “Delivering for America” plan and avers that the instant proposal furthers the fundamental goals of service excellence and financial stability.² The Postal Service states that the proposal would align competitive products (within the contiguous United States) service standards, specifically by raising Retail Ground and Parcel Select Ground standards to the level of the First-Class Package Service standard. Notice at 2-3. The First-Class Package Service standard is planned to be reduced from a 2-to-3 day standard to a 2-to-5 day standard and was the subject of a Commission advisory opinion issued September 29, 2021.³ With regard to the improved standards for Retail Ground and Parcel Select Ground, the Postal Service submits that “customers would benefit from a low-cost, medium-speed, shipping service for packages in excess of one pound.” Notice at 3. The Postal Service also notes that the parcel market has seen significant recent growth and is expected to continue to grow. Id.

² See id. at 2; see also United States Postal Service, Delivering for America: Our Vision and Ten-Year Plan to Achieve Financial Sustainability and Service Excellence, March 23, 2021, at 53, available at https://about.usps.com/what/strategic-plans/delivering-for-america/assets/USPS_Delivering-For-America.pdf.

³ Id.; see Docket No. N2021-2, Advisory Opinion on the Service Standard Changes Associated with First-Class Package Service, September 29, 2021. The Postal Service intends to implement the general reduction in the First-Class Package Service standards either before or concurrently with the general promotion of Retail Ground and Parcel Select Ground standards. Notice at 2 n.4.

The Postal Service must file its formal request for an advisory opinion with the Commission at least 90 days before implementing any of the proposed changes. 39 CFR 3020.112.⁴ This formal request must certify that the Postal Service has made good faith efforts to address the concerns raised at the pre-filing conference and meet other content requirements. 39 CFR 3020.113. After the Postal Service files the formal request for an advisory opinion, the Commission will set forth a procedural schedule and provide additional information in a notice and order that will be published in the Federal Register. 39 CFR 3020.110. Before issuing its advisory opinion, the Commission must provide an opportunity for a formal, on-the-record hearing pursuant to 5 U.S.C. 556 and 557. 39 U.S.C. 3661(c). The procedural rules in 39 CFR part 3020 apply to Docket No. N2021-2.

⁴ The Commission may consider whether to extend the 90 days for a decision based on good cause.

Pursuant to 39 U.S.C. 3661(c) and 39 CFR 3020.111(d), the Commission appoints Joseph K. Press to represent the interests of the general public (Public Representative) in this proceeding. Pursuant to 39 CFR 3020.111(d), the Secretary shall arrange for publication of this order in the Federal Register.

It is ordered:

1. The Commission establishes Docket No. N2022-1 to consider the Postal Service's proposed changes to the service standards for Retail Ground and Parcel Select Ground.

2. The Postal Service shall conduct a virtual pre-filing conference regarding its proposal on March 15, 2022, from 1:00 p.m. to 3:00 p.m. EDT.

3. Pursuant to 39 U.S.C. 3661(c) and 39 CFR 3020.111(d), Joseph K. Press is appointed to serve as an officer of the Commission (Public Representative) to represent the interests of the general public in this proceeding.

4. Pursuant to 39 CFR 3020.111(d), the Secretary shall arrange for publication of this order in the Federal Register.

By the Commission.
Erica A. Barker,
Secretary.

[FR Doc. 2022-05241 Filed 3-11-22; 8:45 am]

BILLING CODE 7710-FW-P